DEPARTMENT OF HEALTH AND HUMAN SERVICES

Office of the National Coordinator for Health Information Technolo; ormation of the American Health Information Community

AGENCY: Office of the National Coordinator for Health Information Technology (ONCHIT), Department of Health and Human Services (HHS).

ACTION: Notice.

SUMMARY: This notice announces the establishment of the American Health Information Community (the Community), a committee established under the Federal Advisory Committee Act (Pub. L. No. 92-463, 5 U.S.C., App.) by the Secretary of the Department of Health and Human Services.

The American Health Information Community will advise the Secretary and recommend specific actions to achieve a common interoperability framework for health information technology (IT) and serve as a forum for participation from a broad range of stakeholders to provide input on achieving interoperability of health IT. The Community shall not exceed 17 voting members, including the Chair, and members shall be appointed by the Secretary.

FOR FURTHER INFORMATION CONTACT: Nominations to serve on the Community should be sent to onchit.request@hhs.gov with a resume and a letter of intent or nomination letter. More information on the nomination and selection process, including a draft copy of the charter establishing the Community, is available on the Web site of the Office of the National Coordinator for Health Information Technology at http://www.hhs.gov/healthit. A final version of the charter will be available fifteen days following the publication of this notice. The deadline for submitting a nomination will be 5 p.m. e.d.t., Friday, August 5, 2005. Questions should be directed to the above e-mail address or to 1-866-505-3500.

Lori Evans, Senior Adviser, National Health Information Technology Coordinator, Office of the National Coordinator for Health Information Technology.

[FR Doc. 05-13840 Filed 7-13-05; 8:45 am]

BILLING CODE 4150-24-P